SMALL BUSINESS ADMINISTRATION

[Disaster Declaration #11311 and #11312]

Missouri Disaster Number MO-00030

AGENCY: U.S. Small Business Administration.

ACTION: Amendment 2.

SUMMARY: This is an amendment of the Presidential declaration of a major disaster for the State of Missouri (FEMA-1773-DR), dated 06/28/2008.

Incident: Severe Storms and Flooding.

Incident Period: 06/01/2008 and continuing.

Effective Date: 07/18/2008.

Physical Loan Application Deadline Date: 08/27/2008.

EIDL Loan Application Deadline Date: 03/30/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 06/28/2008 is hereby amended to include the following areas as adversely affected by the disaster:

Primary Counties: (Physical Damage and Economic Injury Loans):

Andrew, Cass, Greene, Holt, Johnson, Nodaway, Stone, Taney, Vernon, Webster.

Contiguous Counties: (Economic Injury Loans Only):

Missouri: Atchison, Barry, Barton, Bates, Buchanan, Cedar, Christian, Dade, Dallas, Douglas, Henry, Jackson, Laclede, Lafayette, Lawrence, Ozark, Pettis, Polk, Saint Clair, Wright.

Arkansas: Boone, Carroll, Marion.

Iowa: Page, Taylor.

Kansas: Bourbon, Crawford, Doniphan, Johnson, Linn, Miami.

Nebraska: Nemaha, Richardson.

All other information in the original declaration remains unchanged.

(Catalog of Federal Domestic Assistance Numbers 59002 and 59008)

Herbert L. Mitchell,
Associate Administrator for Disaster Assistance.

[FR Doc. E8-17201 Filed 7-25-08; 8:45 am]

BILLING CODE 8025-01-P